DEPARTMENT OF THE INTERIOR

Bureau of Land Management

[LLCA930000 L54200000.PN0000 15XL5017AR LVDIB15B5840; CACA 55576]

Disclaimer of Interest in Lands; California

AGENCY: Bureau of Land Management, Interior.

ACTION: Notice of recordable disclaimer of interest.

SUMMARY: Albert Sparks, Kenneth C. Knowles, Joan Kathleen Knowles, and the David L. Sullivan Living Trust (Knowles) have applied for the United States to issue a recordable disclaimer of interest in lands which were patented by the State of California with a reservation to the United States for future use.

DATES: Comments on issues may be submitted in writing until October 9, 2015.

ADDRESSES: You may submit comments or objections to: Associate Deputy State Director, Division of Natural Resources, 2800 Cottage Way, Ste. W-1928, Sacramento, California 95825.

FOR FURTHER INFORMATION CONTACT: Deanne Kidd, BLM California State Office, 2800 Cottage Way, Sacramento, California 95825; dykidd@blm.gov; (916) 978-4337.

SUPPLEMENTARY INFORMATION: The applicants and the United States agree that the United States holds no remaining interest in the following property although it remains an encumbrance in title reports, and has served as a deterrent to potential buyers. Knowles filed an application requesting the United States to issue a recordable disclaimer of the United States' interest pursuant to Section 315 of the Federal Land Policy and Management Act of 1976 (43 U.S.C. 1745) for the following described lands:

San Bernardino Meridian, California

T. 5 S., R. 1 W.,

Sec. 36, E½SW¼.

The area described contains 80.00 acres, more or less, in Riverside County. The lands described above were conveyed out of Federal ownership to the State of California (State) on January 18, 1907, pursuant to the Act of March 3, 1853 (10 Stat. 244), conveying school lands to the State upon approval of the General Land Office survey for each township. The State subsequently conveyed the lands out of State ownership on March 12, 1931, with the following language:

“subject to rights of way granted to the United States by an act of the Legislature, approved May 18, 1921 (Chapter 173, Statutes of California, 1921), for the uses prescribed in the act of Congress, approved June 17, 1902, relating to irrigation and reclamation.”

The June 17, 1902 Act (Act) grants the United States the authority to study, locate, and construct irrigation works on public lands upon withdrawal of the lands. The California statute referred to in the state patent (Chapter 173, Statutes of California, 1921) grants the United States rights-of-way of construction in contemplation of the Act, and directs that all State patents will be issued subject to the right of way.

The United States asserts that its right to construct rights-of-way on the lands described above was not executed prior to conveyance, and that its authority to execute such a right was extinguished upon issuance of the State patent. The United States therefore has no remaining interest in the lands so described above and proposes to issue a recordable disclaimer of interest to remove the cloud on title.

Authority: 43 CFR 1864.

Danielle Chi,
California Associate Deputy State Director, Division of Natural Resources.

[FR Doc. 2015-22669 Filed 9-8-15; 8:45 am]

BILLING CODE 4310-40-P